DEPARTMENT OF AGRICULTURE

Farm Service Agency

Notice of Availability of the Draft Programmatic Environmental Assessment for Selected Hurricane Assistance Programs

AGENCY: Farm Service Agency, USDA.

ACTION: Notice.

SUMMARY: This notice announces the availability of the draft Programmatic Environmental Assessment (PEA) for selected 2005 Hurricane Assistance Programs of the Farm Service Agency (FSA). These programs include: (1) Hurricane Indemnity Program, (2) Feed Indemnity Program, (3) Livestock Indemnity Program, (4) Tree Indemnity Program, and (5) Aquaculture Grant Program. The draft PEA assesses the potential environmental impacts of alternatives to be considered in the administration of these hurricane programs. The draft PEA also provides a means for the public to voice any concerns they may have about the programs, and any ideas for improving them. This Notice of Availability informs the public of the availability of the applicable draft PEA and solicits public comment.

DATES: FSA invites comments on the draft PEA. Comments should be submitted by close of business on June 5, 2006, to ensure consideration. Comments submitted after this date will be considered to the extent possible.

ADDRESSES: Written comments on and requests for copies of the draft PEA should be directed to James P. Fortner, USDA/FSA/CEPD/Stop 0513, 1400 Independence Ave., SW., Washington, DC 20250-0513. The draft PEA is available on the FSA Worldwide Web site, in Adobe Acrobat (.pdf) format, at: http://www.fsa.usda.gov/dafp/cepd/epb/assessments.htm.

FOR FURTHER INFORMATION CONTACT: James P. Fortner, USDA/FSA/CEPD/Stop 0513, 1400 Independence Ave., SW., Washington, DC 20250-0513, (202) 720-5533, or e-mail at: james.fortner@wdc.usda.gov. Persons with disabilities who require alternative means for communication (Braille, large print, audio tape, etc.) should contact the USDA Target Center at (202) 720-2600 (voice and TDD).

SUPPLEMENTARY INFORMATION: The Farm Service Agency announces the availability of the draft Programmatic Environmental Assessment (PEA) for certain 2005 Hurricane Assistance Programs. FSA, pursuant to section 32 of the Agricultural Adjustment Act of August 24, 1935, is using these programs to restore purchasing power to farmers affected by the significant and widespread destruction caused by Hurricanes Dennis, Katrina, Ophelia, Rita, and Wilma during 2005 in applicable counties in Alabama, Florida, Louisiana, Mississippi, North Carolina, and Texas. These programs include: (1) Hurricane Indemnity Program, (2) Feed Indemnity Program, (3) Livestock Indemnity Program, (4) Tree Indemnity Program, and (5) Aquaculture Grant Program.

The draft PEA assesses the potential environmental impacts of alternatives to be considered in the administration of the 2005 Hurricane Assistance Programs. The draft PEA also provides a means for the public to voice any concerns they may have about the programs, and any ideas for improving them. This Notice of Availability informs the public of the availability of the applicable draft PEA and solicits public comment.

Signed in Washington, DC, on April 27, 2006.
Thomas B. Hofeller,
Acting Administrator, Farm Service Agency.

[FR Doc. E6-6811 Filed 5-4-06; 8:45 am]

BILLING CODE 3410-05-P